DEPARTMENT OF THE INTERIOR

National Park Service

[NPS-OIA-WASO-0711-7740; 0050-673]

Drafting of U.S. Nominations to the World Heritage List

AGENCY: Department of the Interior, National Park Service.

ACTION: Second Notice and Request for Comment.

SUMMARY: This notice constitutes the Second Notice in the Federal Register referred to in Sec. 73.7(f) of the World Heritage Program regulations (36 CFR Part 73). It sets forth the decision to request that draft World Heritage nominations for 11 “Frank Lloyd Wright Buildings” (in Arizona, California, Illinois, New York, Oklahoma, Pennsylvania and Wisconsin) and “Poverty Point State Historic Site and National Monument,” Louisiana, be prepared, thereby notifying the owners and the public of this decision.

On December 14, 2010 (75 FR 77901), the Department of the Interior requested public comment on which property or properties on the U.S. World Heritage Tentative List should be nominated next by the United States to the World Heritage List. This was the First Notice in the Federal Register, pursuant to 36 CFR 73.7(c). The Tentative List consists of properties that appear to qualify for World Heritage status and which may be considered for nomination by the United States to the World Heritage List. The current Tentative List was transmitted to the UNESCO World Heritage Centre on January 24, 2008.

After review of the comments provided by the public and consultation with the Federal Interagency Panel for World Heritage, the Department, in accordance with 36 CFR Part 73, has selected “Frank Lloyd Wright Buildings” and “Poverty Point State Historic Site and National Monument” from the Tentative List as proposed nominations to the World Heritage List. With the assistance of the Department, the owners of these sites are encouraged to prepare complete nomination documents for the sites in accordance with 36 CFR Part 73 and the nomination format required by the World Heritage Committee. A discussion of the decision, the nomination process and schedule and a summary of the comments as received follows.

Recommendations of the Federal Interagency Panel for World Heritage

The Federal Interagency Panel for World Heritage assists the Department of the Interior in implementing the Convention by making recommendations on U.S. World Heritage policy, procedures, and nominations. The Panel is chaired by the Assistant Secretary for Fish and Wildlife and Parks and includes representatives from various Federal Departments and agencies with Federal land management and policy-making responsibilities. The Panel made its recommendations to the Department of the Interior on the next U.S. World Heritage nominations at a meeting on May 9, 2011.

The Panel agreed by consensus to support the preparation of nominations at this time for “Frank Lloyd Wright Buildings” and “Poverty Point State Historic Site and National Monument.” The Panel reviewed the public suggestions for nominations for other properties at this time from the U.S. World Heritage Tentative List but did not recommend the preparation of nominations for any additional or alternate properties, noting that other good candidates on the Tentative List would need more substantial work or assistance before they could be expected to develop viable nominations. Panel members emphasized the considerable work and cost involved in developing nomination documents, and wanted to ensure that any nominations drafted have the best possible chance of success when they may be considered by the World Heritage Committee.

Decision To Request the Preparation of Two U.S. World Heritage Nominations

The Department considered all comments received during the comment period as well as the advice of the Federal Interagency Panel for World Heritage in making the decisions to request drafts for two U.S. World Heritage nominations.

Brief descriptions are provided for these potential nominations along with a summary of the comments about them that had been received and were considered as part of this process. The Department will decide whether to nominate these two sites to the World Heritage List based on complete draft World Heritage nominations for them. Draft World Heritage nominations are requested of the owners for the following sites. The titles of the nominations are subject to revision as the drafts are developed:

Frank Lloyd Wright Buildings

Unity Temple, Oak Park, Illinois (1905-08);

Frederick C. Robie House, Chicago, Illinois (1908-10);

Hollyhock House, Los Angeles, California (1919-21);

Taliesin, Spring Green, Wisconsin (1911 and later);

Fallingwater, Mill Run, Pennsylvania (1936-38);

Herbert and Katherine Jacobs House, Madison, Wisconsin (1937);

S. C. Johnson & Son, Inc., Administration Building and Research Tower, Racine, Wisconsin (1936-39; 1943-50);

Taliesin West, Scottsdale, Arizona (1938);

Price Tower, Bartlesville, Oklahoma (1953-56);

Solomon R. Guggenheim Museum, New York, New York (1956-59);

Marin County Civic Center, San Rafael, California (1960-69).

These eleven properties are among the most iconic, intact, representative, innovative, and influential of the more than 400 Frank Lloyd Wright (1867-1959) designs that have been erected. They span almost sixty years of his efforts to create an “organic architecture” that attracted widespread international attention and powerfully affected the course of modern architecture around the world as well as in the United States. The properties include his two long-time homes with studios and schools, four residences he designed for others, two office complexes, a place of worship, a museum, and a governmental complex.

The Frank Lloyd Wright Buildings were selected to prepare a nomination as the candidate on the Tentative List with the strongest international recognition of global significance. It would be the first U.S. nomination for 20th-century architecture, an area in which the United States has had a major impact. The Frank Lloyd Wright Building Conservancy is providing strong leadership in the preparation of a nomination.

The Department received 16 comments on this proposal; nine expressed general support. The Frank Lloyd Wright Building Conservancy, which is coordinating the nomination effort, detailed the work completed so far, including organizing the owners of the properties to coordinate management, obtaining advice from Wright scholars, and drafting nomination material. The Conservancy also requested that the Herbert and Katharine Jacobs House in Madison, Wisconsin, Wright's first “Usonian” house, be added to the group of buildings. Three comments stated that this is the strongest candidate on the Tentative List and should be the next to be nominated. Two comments suggested changing the name of the proposal. Three comments suggested adding other Wright buildings to the series (not including the Jacobs House).

The Department agrees that the Jacobs House, which was initially part of the 2007 proposal by the Conservancy, should be part of the nomination; the Wisconsin Historical Society now holds a preservation covenant on the house. Other than this addition, the Department believes that the Conservancy has followed a systematic and defensible process to identify the most significant Wright buildings to include, and does not support further additions.

The Department is prepared to reconsider the name of the series to ensure that the emphasis of the nomination is on the significance of the buildings rather than their architect.

Poverty Point, Louisiana

This vast complex of earthen structures, constructed 3,100-3,700 years ago, may be the largest hunter-gatherer settlement that has ever existed. Located on a bayou west of the Mississippi River in northeastern Louisiana, it is an integrated complex of earthen mounds, enormous concentric ridges, and a large plaza. Not only was it the largest and most elaborate settlement of its time in North America, it was, more significantly, built by a foraging society of hunter-gatherers, not a settled agricultural people, which makes it without parallel in world archeological and ethnographic records, challenging anthropology's basic assumptions about hunter-gatherer societies.

Poverty Point was selected to prepare a World Heritage nomination because it is a virtually unique archeological site that is recognized internationally. The nomination effort has the strong support of the State of Louisiana, which has shown excellent progress in developing materials for a nomination. The Department received 10 comments on this site; four expressed general support. Lieutenant Governor Jay Dardenne, speaking for the State of Louisiana as the owner of the site, expressed strong support for the effort and cited work done in preparation for a nomination, including consultation with international experts. Two state senators emphasized the site's readiness to prepare a nomination. The International Committee on Archaeological Heritage Management stated that the proposal is well justified and that the Louisiana team is capable of preparing a satisfactory nomination. Two comments recommended that the site be combined with the Hopewell Ceremonial Earthworks and Serpent Mound, the other archeological sites on the Tentative List; one of these suggested that the grouping be an extension to the Cahokia Mounds World Heritage Site in Illinois. The Department believes that the archeological sites in Louisiana, Illinois and Ohio are sufficiently culturally distinct to merit separate World Heritage listing.

DATES: Draft World Heritage nominations for “Frank Lloyd Wright Buildings” and “Poverty Point State Historic Site and National Monument” must be prepared and submitted in substantially complete draft form to the National Park Service by July 1, 2012 in order for a nomination to potentially be submitted to the UNESCO World Heritage Centre by the United States by February 1, 2013. (The July 1, 2011 date stated in the First Notice is no longer feasible given the time that has elapsed since its publication.) The World Heritage nomination format may be found at the World Heritage Centre Web site at http://whc.unesco.org/en/nominationform. The National Park Service will coordinate the review and evaluation of the draft nominations.

Submission of interim draft nominations to the World Heritage Centre for technical review must be made by September 30, 2012. The Centre is to provide comments by November 15, 2012. The Federal Interagency Panel for World Heritage will review draft nominations following receipt of the Centre's comments. The Interagency Panel will evaluate the adequacy of the nominations, the significance of the properties and whether the nominations should be forwarded to the World Heritage Centre to be considered for listing. Final submittal to the World Heritage Centre by the Department of the Interior through the Department of State is required by February 1, 2013, if the properties are to be considered in the next cycle of nominations to the World Heritage List. Submittal of final nominations must be made no later than that date for the World Heritage Committee to be able to consider them at its annual meeting in the summer of 2014.

Protective measures must be in place before a property may be nominated as provided for in 36 CFR 73.13. If a nomination cannot be completed in accordance with this timeline, work may continue into the following year(s) for subsequent submission to UNESCO.

FOR FURTHER INFORMATION CONTACT: Jonathan Putnam, 202-354-1809 or April Brooks, 202-354-1808. For complete information about U.S. participation in the World Heritage Program, please see the National Park Service Office of International Affairs' Web site at: http://www.nps.gov/oia/topics/worldheritage/worldheritage.htm.

To request paper copies of documents discussed in this notice, please contact April Brooks, Office of International Affairs, National Park Service, 1201 Eye Street, NW., (0050) Washington, DC 20005. E-mail: April_Brooks@nps.gov.

SUPPLEMENTARY INFORMATION:

Background

The World Heritage List is an international list of cultural and natural properties nominated by the signatories to the World Heritage Convention (1972). The United States was the prime architect of the Convention, an international treaty for the preservation of natural and cultural heritage sites of global significance proposed by President Richard M. Nixon in 1971, and the U.S. was the first nation to ratify it. The United States served its fourth term on the World Heritage Committee from 2005-2009. The Committee, composed of representatives of 21 nations periodically elected as the governing body of the World Heritage Convention, makes the final decisions on which nominations to accept on the World Heritage List at its annual meeting each summer.

There are 911 sites in 151 of the 187 signatory countries. Currently there are 21 World Heritage Sites in the United States.

U.S. participation and the roles of the Department of the Interior and the National Park Service are authorized by Title IV of the Historic Preservation Act Amendments of 1980 and conducted in accordance with 36 CFR Part 73—World Heritage Convention. The National Park Service serves as the principal technical agency for World Heritage in the Department of the Interior, which has the lead role for the U.S. Government in the implementation of the Convention and manages all or parts of 17 of the 21 U.S. World Heritage Sites, including Yellowstone National Park, the Everglades, and the Statue of Liberty.

A Tentative List is a national list of natural and cultural properties appearing to meet the World Heritage Committee eligibility criteria for nomination to the World Heritage List. A country cannot nominate a property unless it has been on its Tentative List for a minimum of a year. Countries are limited to nominating no more than two sites in any given year.

Neither inclusion in the Tentative List nor inscription as a World Heritage Site imposes legal restrictions on owners or neighbors of sites, nor does it give the United Nations any management authority or ownership rights in U.S. World Heritage Sites, which continue to be subject only to U.S. law. Inclusion in the Tentative List merely indicates that the property may be further examined for possible World Heritage nomination in the future.

The World Heritage Committee's Operational Guidelines ask participating nations to provide Tentative Lists, which aid in evaluating properties for the World Heritage List on a comparative international basis and help the Committee to schedule its work over the long term. The Guidelines recommend that a nation review its Tentative List at least once every decade.

NPS prepared and submitted (through the Secretary of the Interior and the Secretary of State) to the World Heritage Centre of UNESCO on January 24, 2008, an updated Tentative List. The Tentative List was published in the Federal Register on March 19, 2008. The process for developing the U.S. Tentative List is detailed on the NPS Office of International Affairs Web site at: http://www.nps.gov/oia/topics/worldheritage/worldheritage.htm.

Summary of other Public Comments: On December 14, 2010, the Department published a request for comments in the Federal Register (Volume 75, Number 239, pages 77901-77903), on which of the sites on the Tentative List should be nominated next by the United States. Comments were accepted through January 13, 2011, thirty days from the date of publication of the notice in the Federal Register. Respondents were asked to address the qualifications of the Tentative List properties for nomination by the United States to the World Heritage List.

A summary of the comments received appears below organized by site, along with the Department's responses as appropriate. Comments on the two sites that are proposed for nomination appear in the discussion of the decision. The Department received 172 comments and an Internet petition with 830 signatures. The comments were also available to the Federal Interagency Panel for World Heritage and to the Department of the Interior officials who have selected the properties that are asked to prepare nominations. The full texts of all the comments are available upon request.

Comments were also sought on potential additions to the Tentative List. These comments are on file to be considered by the Federal Interagency Panel and the Department of the Interior in due course.

Cultural Sites

Civil Rights Movement Sites, Alabama: Dexter Ave. King Memorial Baptist Church, Montgomery; Bethel Baptist Church, Birmingham; 16th St. Baptist Church, Birmingham

The Department received seven comments: Three expressed general support and four recommended that a variety of additional sites be added to the grouping to more comprehensively represent the topic.

The Department agrees that additional sites will need to be added before this proposal could be considered for nomination.

Dayton Aviation Sites, Ohio: Wright Cycle Company and Wright & Wright Printing; Huffman Prairie Flying Field; Wright Hall; Hawthorn Hill

The Department received 14 comments: Four expressed general support. The other 10 recommended that Wright Brothers National Memorial in Kitty Hawk, NC be added to the group; two of these commenters also questioned whether Hawthorn Hill should be included in the group, and one also questioned the inclusion of the Wright Cycle Company Building.

The Department acknowledges that some of the components of this proposal may have difficulties in meeting the technical requirements of the World Heritage Committee, and that such issues would have to be resolved before a nomination could be made. The Wright Brothers National Memorial was nominated unsuccessfully in 1981 by the United States, and the Department believes that the issues raised at that time may still affect a potential nomination.

Hopewell Ceremonial Earthworks, Ohio: Fort Ancient State Memorial; Hopewell Culture National Historical Park; Newark Earthworks State Memorial

The Department received 95 comments: 71 of them, plus the Internet petition with 830 signatures, expressed general support, and four provided more substantive expressions of support, including information from Federal and State site owners and stewards on work that has begun to document the properties and engage in public outreach, including a planned symposium. Eleven specifically recommended that the group of sites be expanded to include Serpent Mound State Memorial in Ohio, which is included as a separate site for nomination on the Tentative List. Three recommended that all these sites be combined with Poverty Point, the other archeological site on the Tentative List; one of these suggested that the grouping be an extension to the Cahokia Mounds World Heritage Site in Illinois. One noted concern over the management organization and the sufficiency of preservation of the State-owned components. Two objected to “Hopewell Ceremonial Earthworks” as the proposed name. The Department believes that the archeological sites in Louisiana, Illinois and Ohio are sufficiently culturally distinct to merit separate World Heritage listing. It has considered the justifications proposed for adding Serpent Mound to the Hopewell grouping.

At this time, it believes that the original formulation would still be the most strongly justifiable. If the Ohio properties were to be combined, a different justification for Outstanding Universal Value and a revision of the World Heritage criteria proposed to be met would have to be developed and agreed upon; such an effort, even if deemed viable, would require additional time and consultation.

Thomas Jefferson Buildings, Virginia: Poplar Forest, Bedford County; State Capitol, Richmond

The Department received seven comments. Two expressed general support. One supported the proposal to extend the existing World Heritage listing of Monticello and the University of Virginia as an elaboration of the Jeffersonian architectural idea; three of the others indicated that Poplar Forest was a weaker component and should be reconsidered, and one of these also said that alterations to the State Capitol must be addressed carefully. Two comments said that other properties on the Tentative List should have priority over an extension to an existing listing.

The Department acknowledges that the issue raised in these comments will need to be considered.

Mount Vernon, Virginia

The Department received four comments. One expressed general support. The others made various suggestions for how this site, which was unsuccessfully nominated in 2009, might be reformulated for possible nomination again in the future.

San Antonio Franciscan Missions, Texas: San Antonio Missions National Historical Park and the Alamo (Mission San Antonio)

The Department received 43 comments: 32 expressed general support; this included numerous elected officials. Six comments provided more substantive expressions of support, including information from Federal and State site owners, the Archbishop of San Antonio and others on work that has begun to prepare a nomination and on ongoing research and conservation of the sites. The Advisory Council on Historic Preservation and the National Trust for Historic Preservation suggested that it might best be nominated as an extension to the Mexican World Heritage site of the Franciscan Missions of the Sierra Gorda de Queretaro. The U.S. chapter of the International Council on Monuments and Sites cited some potential weaknesses in the proposal that would need to be addressed. One commenter stated that it should be nominated at this time, although more justification as to how it fills a gap in the World Heritage List is needed; the writer suggested that the agricultural and cultural landscape aspects were most significant, while the architecture is not exceptional in a global context. Another comment suggested that the context needs to address the whole subject of Spanish colonial missions in the Americas; that the core and buffer zones will be challenging to delineate; and that the acequia system should be highlighted.

The Department believes that the range of comments accurately reflects a number of issues that will need to be addressed in a future nomination.

Serpent Mound State Memorial, Ohio

The Department received 67 comments: 53 expressed general support. The Executive Director of the Ohio Historical Society wrote as the owner of the site that he recommended combining the site with the Hopewell Ceremonial Earthworks; nine other comments made a similar suggestion. Richard D. Shiels, Director of the Newark Earthworks Center of the Ohio State University and E. Gordon Gee, President of the University, cited public interpretive and outreach work and research related to the site, including a planned symposium. Two comments recommended that the site be combined with both the Hopewell Ceremonial Earthworks and with Poverty Point in Louisiana; one of these suggested that the grouping be an extension to the Cahokia Mounds World Heritage Site in Illinois.

The Department believes that the archeological sites in Louisiana, Illinois and Ohio are sufficiently culturally distinct to merit separate World Heritage listing. It has considered the justifications proposed for adding Serpent Mound to the Hopewell grouping. At this time, it believes that the original formulation would still be the most strongly justifiable. There is insufficient evidence to link Serpent Mound to the Hopewell culture sites, including conflicting evidence for its construction date. Serpent Mound has a more distinctive identity as an effigy mound.

If the Ohio properties were to be combined, a different justification for Outstanding Universal Value and a revision of the World Heritage criteria proposed to be met would have to be developed and agreed upon; such an effort, even if deemed viable, would require additional time and consultation.

Natural Sites

Fagatele Bay National Marine Sanctuary

The Department received four comments: three expressed general support. The Marine Conservation Biology Institute recommended the nomination of the Marine Sanctuary to the World Heritage List.

The Department believes that Fagatele Bay would be more likely to receive international support were it nominated as a part of a significantly larger nomination, including other areas in American Samoa and perhaps elsewhere in the Pacific.

Okefenokee National Wildlife Refuge

The Department received one comment, expressing general support.

Petrified Forest National Park

The Department received five comments; four expressed general support. Another noted that the site continues to have problems with theft of park resources.

White Sands National Monument

The Department received five comments: four expressed general support. Another made specific recommendations for edits and additions to the site's Tentative List application.

Authority: 16 U.S.C. 470 a-1, a-2, d; 36 CFR Part 73.

Dated: July 7, 2011.
Rachel Jacobson,
Acting Assistant Secretary for Fish and Wildlife and Parks.

[FR Doc. 2011-17769 Filed 7-13-11; 8:45 am]

BILLING CODE 4312-52-P